DEPARTMENT OF HOMELAND SECURITY

Coast Guard

33 CFR Part 165

[Docket No. USCG-2009-0501]

RIN 1625-AA87

Security Zones; Brazos River, Freeport, TX

AGENCY: Coast Guard, DHS.

ACTION: Notice of proposed rulemaking.

SUMMARY: The Coast Guard proposes to establish four permanent security zones in the Brazos River in Freeport, Texas. This security zone is needed to protect vessels, waterfront facilities, and surrounding areas from destruction, loss, or injury caused by terrorism, sabotage, subversive acts, accidents, or incidents of a similar nature. Entry into this zone will be prohibited except by permission of the Captain of the Port Houston-Galveston.

DATES: Comments and related material must reach the Coast Guard on or before December 24, 2009.

ADDRESSES: You may submit comments identified by Coast Guard docket number USCG-2009-0501 to the Docket Management Facility at the U.S. Department of Transportation. To avoid duplication, please use only one of the following methods:

(1) Online: http://www.regulations.gov.

(2) Mail: Docket Management Facility (M-30), U.S. Department of Transportation, West Building Ground Floor, Room W12-140, 1200 New Jersey Avenue, SE., Washington, DC 20590-0001.

(3) Hand delivery: Room W12-140 on the Ground Floor of the West Building, 1200 New Jersey Avenue, SE., Washington, DC 20590, between 9 a.m. and 5 p.m., Monday through Friday, except Federal holidays. The telephone number is (202) 366-9329.

(4) Fax: (202) 493-2251.

FOR FURTHER INFORMATION CONTACT: Lieutenant junior grade Margaret Brown, Sector Houston-Galveston, telephone (713) 678-9001, or e-mail margaret.a.brown@uscg.mil. If you have questions on viewing or submitting material to the docket, call Renee V. Wright, Program Manager, Docket Operations, telephone (202) 366-9826.

SUPPLEMENTARY INFORMATION:

Request for Comments

Public Participation and Request for Comments

We encourage you to participate in this rulemaking by submitting comments and related materials. All comments received will be posted, without change, to http://www.regulations.gov and will include any personal information you have provided. We have an agreement with the Department of Transportation (DOT) to use the Docket Management Facility. Please see DOT's “Privacy Act” paragraph below.

Submitting Comments

If you submit a comment, please include the docket number for this rulemaking [USCG-2009-0501], indicate the specific section of this document to which each comment applies, and give the reason for each comment. We recommend that you include your name and a mailing address, an e-mail address, or a phone number in the body of your document so that we can contact you if we have questions regarding your submission. You may submit your comments and material by electronic means, mail, fax, or delivery to the Docket Management Facility at the address under ADDRESSES; but please submit your comments and material by only one means. If you submit them by mail or delivery, submit them in an unbound format, no larger than 8½ by 11 inches, suitable for copying and electronic filing. If you submit them by mail and would like to know that they reached the Facility, please enclose a stamped, self-addressed postcard or envelope. We will consider all comments and material received during the comment period. We may change this proposed rule in view of them.

Viewing Comments and Documents

To view comments, as well as documents mentioned in this preamble as being available in the docket, go to http://www.regulations.gov, click on the “read comments” box, which will then become highlighted in blue. In the “Keyword” box insert “USCG-2009-0501” and click “Search.” Click the “Open Docket Folder” in the “Actions” column. You may also visit the Docket Management Facility in Room W12-140 on the ground floor of the Department of Transportation West Building, 1200 New Jersey Avenue SE., Washington, DC 20590, between 9 a.m. and 5 p.m., Monday through Friday, except Federal holidays. We have an agreement with the Department of Transportation to use the Docket Management Facility.

Privacy Act

Anyone can search the electronic form of all comments received into any of our dockets by the name of the individual submitting the comment (or signing the comment, if submitted on behalf of an association, business, labor union, etc.). You may review the Department of Transportation's Privacy Act Statement in the Federal Register published on April 11, 2000 (65 FR 19477), or you may visit http://DocketsInfo.dot.gov.

Public Meeting

We do not plan to hold a public meeting. But you may submit a request for one using one of the four methods specified under ADDRESSES. Please explain why you believe a public meeting would be beneficial. If we determine that one would aid this rulemaking, we will hold one at a time and place announced by a later notice in the Federal Register.

Background and Purpose

Heightened awareness of potential terrorist acts requires enhanced security of our ports, harbors, and vessels. To enhance security, the Captain of the Port Houston-Galveston proposes to establish four permanent security zones within the port of Freeport, TX.

These zones would protect waterfront facilities, persons, and vessels from subversive or terrorist acts. Vessels operating within the Captain of the Port Houston-Galveston Zone are potential targets of terrorist attacks, or potential launch platforms for terrorist attacks on other vessels, waterfront facilities, and adjacent population centers. The zones being proposed are in areas with a high concentration of commercial facilities that are considered critical to national security.

All vessels not exempted under § 165.814(c) desiring to enter this zone would be required to obtain express permission from the Captain of the Port Houston-Galveston or his designated representative prior to entry. This proposed rule is not designed to restrict access to vessels engaged, or assisting in commerce with waterfront facilities within the security zones, vessels operated by port authorities, vessels operated by waterfront facilities within the security zones, and vessels operated by federal, state, county or municipal agencies. By limiting access to this area the Coast Guard would reduce potential methods of attack on vessels, waterfront facilities, and adjacent population centers located within the zones.

Discussion of Proposed Rule

The Captain of the Port Houston-Galveston is proposing four permanent security zones in the waters adjacent to the Dow Chemical Facility in Freeport, Texas. All vessels not exempted under this rule would be prohibited from entering the security zone unless authorized by the Captain of the Port Houston-Galveston or his designated representative. In Houston, vessels can contact the Captain of the Port Houston-Galveston through Vessel Traffic Service Houston/Galveston on VHF Channel 5A, by telephone at (713) 671-5103, or by facsimile at (713) 671-5159. In Freeport, vessels can contact the Captain of the Port Houston-Galveston through Marine Safety Unit Galveston, by telephone at (409) 978-2700, or by facsimile at (409) 978-2671.

The security zones are as follows:

(i) The Dow Barge Canal, containing all waters of the Dow Barge Canal north of a line drawn between 28°56.81′ N/095°18.33′ W and 28°56.63′ N/095°18.54′ W (NAD 1983). This zone increases the size of the established security zone to include the interior part of the Dow Barge Canal.

(ii) The Brazos Harbor, containing all waters west of a line drawn between 28°56.45′ N, 95°20.00′ W, and 28°56.15′ N, 95°20.00′ W (NAD 1983) at its junction with the Old Brazos River. This security zone remains unchanged, but the position descriptions are changed from Degrees-Minutes-Seconds to Degrees-Minutes.Decimal Minutes for ease of use and maximum compatibility with GPS devices.

(iii) The Dow Chemical plant, containing all waters of the Brazos Point Turning Basin within 100′ of the north shore and bounded on the east by the longitude line drawn through 28°56.58′ N/095°18.64′ W and on the west by the longitude line drawn through 28°56.64′ N/095°19.13′ W (NAD 1983). This is a new security zone surrounding the docks of the Dow Chemical Plant.

(iv) The Seaway Teppco Facility, containing all waters of the Brazos Port Turning Basin bounded on the south by the shore, the north by the Federal Channel, on the east by the longitude line running through 28°56.44′ N, 95°18.83′ W and 28°56.48′ N 095°18.83′ W and on the West by the longitude line running through 28°56.12′ N, 95°19.27′ W and 28°56.11′ N, 095°19.34′ W (NAD 1983). This is a new security zone surrounding the docks of the Seaway Teppco Facility.

(v) The Conoco Phillips Facility docks, containing all waters within 100 feet of a line drawn from a point on shore at approximate position 28°55.96′ N, 095°19.77′ W east to a point on shore at approximate position 28°56.19′ N, 095°20.07′ W (NAD 1983). This is a new security zone surrounding the docks of the Conoco Phillips facility.

Regulatory Evaluation

This proposed rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Homeland Security (DHS). We expect the economic impact of this proposed rule to be so minimal that a full Regulatory Evaluation is unnecessary. The basis of this finding is that the security zones are not part of the Federal Channel. It does not impede commercial traffic to, from, or within the Port of Freeport. Recreational and commercial fishing vessel traffic will be able to transit the Brazos River within the Federal Channel.

Small Entities

Under the Regulatory Flexibility Act (5 U.S.C. 601-612), we have considered whether this proposed rule would have a significant economic impact on a substantial number of small entities. The term “small entities” comprises small businesses, not-for-profit organizations that are independently owned and operated and are not dominant in their fields, and governmental jurisdictions with populations of less than 50,000.

The Coast Guard certifies under 5 U.S.C. 605(b) that this proposed rule would not have a significant economic impact on a substantial number of small entities.

This proposed rule would not have a significant economic impact on a substantial number of small entities for the following reason: This proposed rule would not interfere with any commercial vessel traffic within the Old Brazos River.

If you think that your business, organization, or governmental jurisdiction qualifies as a small entity and that this proposed rule would have a significant economic impact on it, please submit a comment (see ADDRESSES) explaining why you think it qualifies and how and to what degree this rule would economically affect it.

Assistance for Small Entities

Under section 213(a) of the Small Business Regulatory Enforcement Fairness Act of 1996 (Pub. L. 104-121), we want to assist small entities in understanding this proposed rule so that they can better evaluate its effects on them and participate in the rulemaking. If the rule would affect your small business, organization, or governmental jurisdiction and you have questions concerning its provisions or options for compliance, please contact Lieutenant junior grade Margaret Brown at (713) 678-9001. The Coast Guard will not retaliate against small entities that question or complain about this rule or any policy or action of the Coast Guard.

Collection of Information

This proposed rule would call for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this proposed rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this proposed rule would not result in such expenditure, we do discuss the effects of this rule elsewhere in this preamble.

Taking of Private Property

This proposed rule would not affect a taking of private property or otherwise have taking implications under Executive Order 12630, Governmental Actions and Interference with Constitutionally Protected Property Rights.

Civil Justice Reform

This proposed rule meets applicable standards in sections 3(a) and 3(b)(2) of Executive Order 12988, Civil Justice Reform, to minimize litigation, eliminate ambiguity, and reduce burden.

Protection of Children

We have analyzed this proposed rule under Executive Order 13045, Protection of Children from Environmental Health Risks and Safety Risks. This rule is not an economically significant rule and would not create an environmental risk to health or risk to safety that might disproportionately affect children.

Indian Tribal Governments

This proposed rule does not have tribal implications under Executive Order 13175, Consultation and Coordination with Indian Tribal Governments, because it would not have a substantial direct effect on one or more Indian tribes, on the relationship between the Federal Government and Indian tribes, or on the distribution of power and responsibilities between the Federal Government and Indian tribes.

Energy Effects

We have analyzed this proposed rule under Executive Order 13211, Actions Concerning Regulations That Significantly Affect Energy Supply, Distribution, or Use. We have determined that it is not a “significant energy action” under that Order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies. This proposed rule would not use technical standards. Therefore, we did not consider the use of voluntary consensus standards.

Environment

We have analyzed this proposed rule under Commandant Instruction M16475.lD, which guides the Coast Guard in complying with the National Environmental Policy Act of 1969 (NEPA) (42 U.S.C. 4321-4370f), and have made a preliminary determination that this action is not likely to have a significant effect on the human environment. A preliminary “Environmental Analysis Check List” supporting this preliminary determination is available in the docket where indicated under ADDRESSES. The proposed rule involves establishing security zones and is excluded under paragraph 34(g) of the Commandant Instruction. We seek any comments or information that may lead to the discovery of a significant environmental impact from this proposed rule.

List of Subjects in 33 CFR Part 165

Harbors, Marine safety, Navigation (water), Reporting and recordkeeping requirements, Security measures, Waterways.

For the reasons discussed in the preamble, the Coast Guard proposes to amend 33 CFR part 165 as follows:

PART 165—REGULATED NAVIGATION AREAS AND LIMITED ACCESS AREAS

1. The authority citation for part 165 continues to read as follows:

Authority: 33 U.S.C. 1226, 1231; 46 U.S.C. Chapter 701, 3306, 3703; 50 U.S.C. 191, 195; 33 CFR 1.05-1, 6.04-1, 6.04-6, and 160.5; Pub. L. 107-295, 116 Stat. 2064; Department of Homeland Security Delegation No. 0170.1.

2. Revise § 165.814(a)(5) to read as follows:

§ 165.814 Security Zones; Captain of the Port Houston-Galveston Zone.

(a) * * * * *

(5) Freeport, Texas. (i) The Dow Barge Canal, containing all waters of the Dow Barge Canal north of a line drawn between 28°56.81′ N/095°18.33′ W and 28°56.63′ N/095°18.54′ W (NAD 1983).

(ii) The Brazos Harbor, containing all waters west of a line drawn between 28°56.45′ N, 95°20.00′ W, and 28°56.15′ N, 95°20.00′ W (NAD 1983) at its junction with the Old Brazos River.

(iii) The Dow Chemical plant, containing all waters of the Brazos Point Turning Basin within 100′ of the north shore and bounded on the east by the longitude line drawn through 28°56.58′ N/095°18.64′ W and on the west by the longitude line drawn through 28°56.64′ N/095°19.13′ W (NAD 1983).

(iv) The Seaway Teppco Facility, containing all waters of the Brazos Port Turning Basin bounded on the south by the shore, the north by the Federal Channel, on the east by the longitude line running through 28°56.44′ N, 95°18.83′ W and 28°56.48′ N 095°18.83′ W and on the West by the longitude line running through 28°56.12′ N, 95°19.27′ W and 28°56.11′ N, 095°19.34′ W (NAD 1983).

(v) The Conoco Phillips Facility docks, containing all waters within 100′ of a line drawn from a point on shore at Latitude 28°55.96′ N, Longitude 095°19.77′ W, extending west to a point on shore at Latitude 28°56.19′ N, Longitude 095°20.07′ W (NAD 1983).

Dated: September 29, 2009.
Marcus E. Woodring,
Captain, U.S. Coast Guard, Captain of the Port Houston-Galveston.

[FR Doc. E9-28185 Filed 11-23-09; 8:45 am]

BILLING CODE 4910-15-P